DEPARTMENT OF AGRICULTURE

Food and Nutrition Service

Agency Information Collection Activities: Proposed Collection; Comment Request—Negative QC Review Schedule, Status of Sample Selection of Completion

AGENCY: Food and Nutrition Service, USDA.

ACTION: Notice.

SUMMARY: In accordance with the Paperwork Reduction Act of 1995, this notice invites the general public and other public agencies to comment on this proposed information collection. This collection is a revision of a currently approved collection for FNS-245, Case and Procedural Case Action Review Schedule.

DATES: Written comments must be received on or before July 31, 2017.

ADDRESSES: Comments are invited on: (a) Whether the proposed collection of information is necessary for the proper performance of the functions of the agency, including whether the information shall have practical utility; (b) the accuracy of the agency's estimate of the burden of the proposed collection of information, including the validity of the methodology and assumptions that were used; (c) ways to enhance the quality, utility, and clarity of the information to be collected; and (d) ways to minimize the burden of the collection of information on those who are to respond, including use of appropriate automated, electronic, mechanical, or other technological collection techniques or other forms of information technology.

Comments may be sent to: Lacy O'Neal, Food and Nutrition Service, U.S. Department of Agriculture, 3101 Park Center Drive, Room 824, Alexandria, VA 22302. Comments may also be submitted via fax to the attention of Stephanie Proska at 703-305-2516 or via email to SNAPHQ-Web@fns.usda.gov. Comments will also be accepted through the Federal eRulemaking Portal. Go to http://www.regulations.gov, and follow the online instructions for submitting comments electronically.

All responses to this notice will be summarized and included in the request for Office of Management and Budget approval. All comments will be a matter of public record.

FOR FURTHER INFORMATION CONTACT: Requests for additional information or copies of this information collection should be directed to Lacy O'Neal at 703-305-2516.

SUPPLEMENTARY INFORMATION: Title: Case and Procedural Case Action Review Schedule.

Form Number: FNS 245.

OMB Number: 0584-0034.

Expiration Date: October 31, 2017.

Type of Request: Revision of a currently approved collection.

Abstract: State agencies must complete and maintain the FNS-245 for each negative case in their SNAP Quality Control (QC) sample. The FNS-245, Negative Case Action Review Schedule, is designed to collect QC data and serve as the data entry form for negative case action QC reviews in the Supplemental Nutrition Assistance Program (SNAP). The legal authority for SNAP QC can be found in Section 16(c) of the Food and Nutrition Act of 2008, as amended; the regulatory requirement for the QC reporting requirements is provided by 7 CFR 275.14(d) and 7 CFR 275.2; and the legislative requirement for the recordkeeping requirements is Section 11(a) of the Act. In addition, SNAP regulations, in Section 272.1(f), specify that program records are to be retained for a period of three years from the date of fiscal or administrative closure.

The reporting and recordkeeping burden associated with the completion of the FNS-245 has decreased from approximately 118,569 hours to 115,514.87 hours. The 3,054.13 hour decrease in the total burden is largely a result of the decrease in total SNAP negative case selections from 38,911 cases in FY 2010 to 38,970 cases in FY 2015.

Affected Public: State, Local and Tribal Government.

Estimated Number of Respondents: 53 State Agencies.

Estimated Number of Responses per Respondent: 735.28.

Estimated Total Annual Responses: 38,970.

Estimated Time per Response: 176.436 minutes (2.9406 hours).

Estimated Total Burden Hours: 114,595.18.

Number of Record Keepers: 53.

Number of Records per Record Keeper: 735.28 Records.

Estimated Number of Records/Response to Keep: 38,970 Records.

Recordkeeping time per Response: 1.416 minutes (.0236 hours).

Total Estimated Recordkeeping Burden Hours: 55,181.4 minutes (919.692 hours).

Estimated Total Annual Burden on Respondents including reporting and recording: 6,930,892.2 minutes (115,514.87 hours).

Reporting and Recordkeeping Burden
Respondent | Estimated number respondents | Estimated total responses annually per respondent | Estimated total annual responses | Estimated average number of hours per response | Estimated total hours
|  | (Col. d/b) | (Col. bxc) |  | (Col. dxe)
State Agencies (SA) Reporting | 53 | 735.28 | 38,970 | 2.9406 | 114,595.18
State Agencies (SA) Recordkeeping | 53 | 735.28 | 38,970 | 0.0236 | 919.69
Grand Total Reporting & Recordkeeping Burden for the entire collection I/H case files and SA | 106 |  | 77,940 |  | 115,514.87

Dated: May 18, 2017.
Jessica Shahin,
Acting Administrator, Food and Nutrition Service.

[FR Doc. 2017-11244 Filed 5-31-17; 8:45 am]

BILLING CODE 3410-30-P